DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 28, 2009.

Interested persons are invited to submit written comments regarding the subject matter of the investigations to the Director, Division of Trade Adjustment Assistance, at the address shown below, not later than May 28, 2009.

The petitions filed in this case are available for inspection at the Office of the Director, Division of Trade Adjustment Assistance, Employment and Training Administration, U.S. Department of Labor, Room N-5428, 200 Constitution Avenue, NW., Washington, DC 20210.

Signed at Washington, DC, this 11th day of May 2009.
Linda G. Poole,
Certifying Officer, Division of Trade Adjustment Assistance.

Appendix—TAA Petitions Instituted Between 4/27/09 and 5/1/09
TA-W | Subject firm (petitioners) | Location | Date of institution | Date of petition
65850 | Mamco (Wkrs) | Onconta, NY | 04/27/09 | 04/23/09
65851 | Precise Engineering (State) | Lowell, MI | 04/27/09 | 04/20/09
65852 | Dana Corporation (State) | Auburn Hills, MI | 04/27/09 | 03/24/09
65853 | Faurecia Exhaust Systems, Inc. (Comp) | Troy, OH | 04/27/09 | 03/27/09
65854 | Sypris Technologies (Comp) | Marion, OH | 04/27/09 | 04/22/09
65855 | Horizon Hobby, Inc. (Comp) | Ontario, CA | 04/28/09 | 04/20/09
65856 | N and E Components, Inc. (Comp) | High Point, NC | 04/28/09 | 04/20/09
65857A | Steelcase University (Comp) | Grand Rapids, MI | 04/28/09 | 04/21/09
65857B | Steelcase, Inc. (Comp) | Caledonia, MI | 04/28/09 | 04/21/09
65857 | Steelcase, Inc. (Comp) | Kentwood, MI | 04/28/09 | 04/21/09
65858 | Schnadig Corporation (Wkrs) | Des Plaines, IL | 04/28/09 | 04/27/09
65859 | T. Rad North America, Inc. (Wkrs) | Hopkinsville, KY | 04/28/09 | 04/24/09
65860 | Manitowoc Tool and Machine, LLC (54220) | Manitowoc, WI | 04/28/09 | 04/27/09
65861 | Wesley Hall Furniture, Inc. (Wkrs) | Hickory, NC | 04/28/09 | 04/27/09
65862 | BU Professional Lunimaries NA (IUECWA) | Burlington, MA | 04/28/09 | 04/23/09
65863 | Watry Industries, Inc. (State) | Sheboygan, WI | 04/29/09 | 04/24/09
65864 | Baker Furniture (Wkrs) | Hickory, NC | 04/29/09 | 04/23/09
65865 | Steel Tool and Die (Comp) | St. Marys, PA | 04/29/09 | 04/28/09
65866 | Maxon Furniture (Wkrs) | Salisbury, NC | 04/29/09 | 04/23/09
65867 | Vanguard Supreme (Comp) | Monroe, NC | 04/29/09 | 04/28/09
65868 | Nortel Networks (Wkrs) | Richardson, TX | 04/29/09 | 04/20/09
65869 | Chatsworth Products, Inc. (Wkrs) | New Bern, NC | 04/29/09 | 04/22/09
65870 | Samuel Aaron International (Wkrs) | Long Island City, NY | 04/30/09 | 04/24/09
65871 | Sherwood Valve, LLC (USWA) | Washington, PA | 04/30/09 | 04/30/09
65872 | Aaron's Automotive Products, Inc. (Wkrs) | Springfield, MO | 04/30/09 | 04/29/09
65873 | Tyco Electronics (Wkrs) | Greensboro, NC | 05/01/09 | 04/17/09
65874 | Fielder Electric Motor Repair, Inc. (Comp) | Galax, VA | 05/01/09 | 04/30/09
65875 | Eastern Display (Comp) | Providence, RI | 05/01/09 | 04/30/09

[FR Doc. E9-11429 Filed 5-15-09; 8:45 am]

BILLING CODE 4510-FN-P